DEPARTMENT OF TRANSPORTATION

Federal Railroad Administration

[Docket No. FRA-2016-0002-N-6]

Agency Request for Emergency Processing of Collection of Information by the Office of Management and Budget

AGENCY: Federal Railroad Administration (FRA), United States Department of Transportation (US DOT).

ACTION: Notice.

SUMMARY: Consistent with the Paperwork Reduction Act of 1995 and its implementing regulations, this document provides notice that FRA is submitting the following Information Collection Request (ICR) to the Office of Management and Budget (OMB) to collect information on Positive Train Control (PTC) implementation on an annual form and a quarterly form. FRA requests emergency processing and OMB authorization to collect the information on the annual form identified below five business days after publication of this Notice for a period of 180 days. FRA requests regular processing and OMB authorization to collect the information on the quarterly form identified below 90 days after publication of this Notice for a period of three years.

FOR FURTHER INFORMATION CONTACT: A copy of this individual ICR, with any public applicable supporting documentation, may be obtained by telephoning FRA's Office of Safety Information Collection Clearance Officer, Robert Brogan (tel. (202) 493-6292), or FRA's Office of Administration Information Collection Clearance Officer, Kimberly Toone (tel. (202) 493-6132); these numbers are not toll-free; or by contacting Mr. Brogan via facsimile at (202) 493-6216 or Ms. Toone via facsimile at (202) 493-6497, or via email by contacting Mr. Brogan at Robert.Brogan@dot.gov, or by contacting Ms. Toone at Kim.Toone@dot.gov. Comments or questions about any aspect of this ICR pertaining to the Quarterly PTC Progress Report Form should be directed to Mr. Brogan or Ms. Toone, while comments or questions about any aspect of this ICR pertaining to the Annual PTC Progress Report Form should be directed to OMB's Office of Information and Regulatory Affairs, Attn: FRA OMB Desk Officer.

SUPPLEMENTARY INFORMATION: Under 49 U.S.C. 20157, as amended by the Positive Train Control Enforcement and Implementation Act of 2015 (PTCEI Act) and the Fixing America's Surface Transportation (FAST) Act, each railroad required to implement a positive train control (PTC) system must provide information to FRA on its implementation progress. Under the PTCEI Act, each railroad subject to 49 U.S.C. 20157(a) must submit an annual progress report to FRA by March 31, 2016, and annually thereafter, until PTC implementation is complete. 49 U.S.C. 20157(c)(1). The amended statute specifically requires each railroad to provide certain information in the annual reports regarding its progress toward implementing PTC, and authorizes FRA to request that railroads provide additional information in the annual progress reports. See id. The annual progress report will report all progress for the previous calendar year.

In addition, 49 U.S.C. 20157(c)(2) requires FRA to conduct compliance reviews, at least annually, to ensure that each railroad is complying with its revised PTC implementation plan (PTCIP). The amended statute requires railroads to provide information to FRA that FRA determines is necessary to adequately conduct such compliance reviews. See 49 U.S.C. 20157(c)(2).

To effectively monitor compliance with PTC system implementation, FRA is proposing to require each subject railroad and entity to submit quarterly reports on its implementation progress, in addition to the annual progress reports, under the PTCEI Act and FRA's statutory and regulatory investigative authorities. See 49 U.S.C. 20157(c)(2); see also 49 U.S.C. 20107, 20902; 49 CFR 236.1009(h). Specifically, FRA is proposing that, in addition to the annual report due each March 31 under 49 U.S.C. 20157(c)(1), railroads must provide quarterly progress reports covering the preceding three-month period and submit the forms to FRA on the dates in the following table until full PTC system implementation is completed:

| Coverage period | Due dates for quarterly reports
Q1 | January 1-March 31 | June 30, 2016, and each April 30 thereafter.
Q2 | April 1-June 30 | July 31.
Q3 | July 1-September 30 | October 31.
Q4 | October 1-December 31 | January 31.

FRA is delaying submission of the first quarterly form to allow time for the normal 60-days of notice and public comment directed to the agency and the additional 30 days of public comment directed to OMB while the submission undergoes OMB review as required under the Paperwork Reduction Act of 1995 and its concomitant regulations. Since the annual report is statutorily required by March 31, 2016, FRA is seeking Emergency Processing for the annual form.

Annual and quarterly reporting will enable FRA to effectively track and report railroad progress and compliance, and to perform its roles in enforcement and industry oversight. The proposed quarterly progress report form is formatted similar to the “PTCIP template” (FRA F 6180.164, OMB No. 2130-0553) and will be used to track railroads' progress on, and compliance with, the core quantitative implementation elements and goals, some of which are included in the railroads' revised PTCIPs. The quarterly frequency will allow FRA to identify potential trends so that it can manage its technical assistance and monitor compliance accordingly. The annual report is required by law, but FRA is providing guidance on what type of information must be provided to ensure consistency of the information industry provides to FRA and its usefulness to FRA for assessing progress and compliance.

FRA is proposing that each railroad must submit its quarterly progress reports and annual progress reports using Form FRA F 6180.165 and Form FRA F 6180.166, respectively.

FRA is proposing to let the less detailed monthly reporting that it currently requires (approved under OMB No. 2130-0553) expire in June 2016 when railroads would be required to begin providing the quarterly progress reports.

As provided under 5 CFR 1320.13, FRA is requesting emergency processing for the new annual progress report collection of information under the Paperwork Reduction Act of 1995 and its implementing regulations. See, e.g., 44 U.S.C. 3507; 5 CFR 1320.13. FRA cannot reasonably comply with normal clearance procedures since they would be reasonably likely to disrupt the collection of information. Each railroad is required to submit its annual PTC progress report by March 31, 2016, under 49 U.S.C. 20157(c)(1). Therefore, FRA cannot wait the typical 60-day period for public comment. Therefore, FRA is requesting OMB approval as soon as possible (i.e., 5 business days after publication of this Notice) for this collection of information.

FRA is not requesting Emergency Processing for the quarterly PTC progress reports because the first quarterly reports will be due by June 30, 2016. The Paperwork Reduction Act of 1995, Public Law 104-13, sec. 2, 109 Stat. 163 (1995) (codified as revised at 44 U.S.C. 3501-3520), and its implementing regulations, 5 CFR part 1320, require Federal agencies to provide 60-days' notice to the public for comment on information collection activities before seeking approval for reinstatement or renewal by OMB. 44 U.S.C. 35069(c)(2)(A); 5 CFR 1320.8(d)(1), 1320.10(e)(1), 1320.12(a). Here, FRA is seeking public comment on its proposed quarterly reporting form to gather the information FRA needs to conduct the compliance reviews the PTCEI Act requires and is requesting a minimum OMB review and approval period of 30 days after the 60-day comment period expires. Comments on any aspect of the Quarterly PTC Progress Report may be sent to the following: Federal Railroad Administration, 1200 New Jersey Ave. SE., Washington, DC 20590, Attention: Mr. Robert Brogan or Ms. Kim Toone; or via email at the following: Robert.Brogan@dot.gov; Kim.Toone@dot.gov. Copies of both proposed forms are published as attachments to this notice.

The associated collection of information is summarized below.

Title: Quarterly Positive Train Control (PTC) Progress Report Form and Annual Positive Train Control (PTC) Progress Report Form.

Reporting Burden:

| Respondent universe | Total annual responses | Average time per response (hours) | Total annual burden hours
Quarterly PTC Progress Report:
Form FRA F 6180.165 | 41 Railroads | 164 Reports/Forms | 1.573 | 258
Annual PTC Progress Report:
Form FRA F 6180.166 | 41 Railroads | 41 Reports/Forms | 38.41 | 1,575

Form Number(s): FRA F 6180.165; FRA F 6180.166.

Respondent Universe: 41 Railroads.

Frequency of Submission: On occasion.

Total Estimated Responses for New Quarterly and Annual PTC Progress Report Forms: 205.

Total Estimated Responses for Entire Information Collection: 147,776.

Total Estimated Annual Burden for New PTC Quarterly and Annual Progress Report Forms: 1,833 hours.

Total Estimated Burden for Entire Information Collection: 3,122,817.

Status: Emergency Review (Annual PTC Progress Report Form) and Regular Review (Quarterly PTC Progress Report Form).

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Issued in Washington, DC, on March 1, 2016.
Corey Hill,
Acting Executive Director.

BILLING CODE 4910-06-P

[FR Doc. 2016-04882 Filed 3-4-16; 8:45 am]

BILLING CODE 4910-06-C